FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011828.

Title: Yangming Marine Transport Corporation/Wan Hai Lines Ltd. (YM/WHL) Asia/U.S. Pacific Coast Slot Allocation & Sailing Agreement.

Parties: Yangming Marine Transport Corporation Wan Hai Lines Ltd.

Synopsis: The agreement authorizes Yangming to charter space to Wan Hai in the trade from ports on the U.S. West Coast, on the one hand, to ports in Asia, on the other hand. The parties request expedited review.

By Order of the Federal Maritime Commission.
Dated: October 8, 2002.
Bryant L. VanBrakle,
Secretary.

[FR Doc. 02-26031 Filed 10-10-02; 8:45 am]

BILLING CODE 6730-01-P